DEPARTMENT OF LABOR

Employment and Training Administration

Investigations Regarding Certifications of Eligibility To Apply for Worker Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than August 19, 2002.

Interested persons are invited to submit written comments regarding the subject matter of the investigations to the Director, Division of Trade Adjustment Assistance, at the address shown below, not later than August 19, 2002.

The petitions filed in this case are available for inspection at the Office of the Director, Division of Trade Adjustment Assistance, Employment and Training Administration, U.S. Department of Labor, Room C-5311, 2000 Constitution Avenue, NW., Washington, DC 20210.

Signed at Washington, DC this 15th day of July, 2002.
Edward A. Tomchick,
Director, Division of Trade Adjustment Assistance.

Appendix

Petitions Instituted on 07/15/2002
TA-W | Subject firm (petitioners) | Location | Date of petition | Product(s)
41,808 | Newcor (Co.) | Troy, MI | 06/24/2002 | Ford Oil Pump.
41,809 | Encana Energy Resources (Co.) | Butte, MI | 06/13/2002 | Oil and Gas.
41,810 | Mid Western Machinery Co. (Co.) | Joplin, MO | 06/06/2002 | Rock Drills and Replacement Part.
41,811 | Clark Alabama (Co.) | Pell City, AL | 06/24/2002 | Handling Equipment.
41,812 | A.O. Smith (Co.) | Monticello, IN | 06/24/2002 | C-Frame.
41,813 | StarTrek (Co.) | Laramie, WY | 05/31/2002 | Technical Support.
41,814 | Trus Joist (Co.) | Stayton, OR | 06/25/2002 | I-Joist Products.
41,815 | Saunders Mfg. Co. Inc. (Co.) | Winthrop, ME | 07/01/2002 | Aluminum Clipboards.
41,816 | Wisconsin Color Press (Co.) | Milwaukee, WI | 06/20/2002 | Magazines.
41,817 | Arrow SI, Inc. (Co.) | Asheboro, NC | 07/02/2002 | Replacement Parts.
41,881 | Robinson Mfg. (Co.) | Oxford, ME | 07/02/2002 | Wool/Nylon.
41,819 | National Forge Company (Wkrs) | Irvine, PA | 06/25/2002 | CrankShafts.
41,820 | General Cable (IBEW) | Bonham, TX | 06/24/2002 | Copper Cable.
41,821 | Detroit Stoker Company (Wkrs) | Monroe, MI | 04/02/2002 | Roto Grates.
41,822 | Nextec (Wkrs) | Vista, CA | 06/11/2002 | Textiles, Fabric, Carcovee.
41,823 | Austin Farms (Wkrs) | Indianola, MS | 06/18/2002 | Catfish.
41,824 | Spectel MultiLink Inc. (Wkrs) | Andover, MA | 06/17/2002 | Audio Conferencing Hard and Software.
41,825 | Voith Paper (Wkrs) | Appleton, WI | 06/19/2002 | Paper Producing Machinery.
41,826 | Marco Manufacturing (Wkrs) | Seattle, WA | 06/28/2002 | Fishing Gear and Equipment.
41,827 | Motorola (Wkrs.) | Mesa, AZ | 06/17/2002 | LD-MOS Devices.
41,828 | Eagle Picher Technologies (Wkrs) | Quapaw, OK | 06/21/2002 | Geraniam.
41,829 | Aurafin LLC (Wkrs) | Providence, RI | 06/26/2002 | Gold Hoop Earrings.
41,830 | Ameriphone (Wkrs.) | Garden Grove, CA | 06/25/2002 | Amplified Telephones.
41,831 | Accura Tool & Die (Wkrs) | Crystal Lake, IL | 04/26/2002 | Metal Parts and Molds.
41,832 | Alcoa Fujikura Ltd. (Wkrs) | Houston, MS | 02/25/2002 | Fiber Optical Cables.
41,833 | Metso Automation (Wkrs) | Shrewsbury, MA | 06/21/2002 | Industrial Valves.
41,834 | Munsey Products (Co.) | Little Rock, AR | 06/19/2002 | Small Electrical Appliance.
41,835 | Premier Turbines (Co.) | Neosho, MO | 06/25/2002 | J85 Engine.
41,836 | Mansfield Plumbing (Wkrs) | Kilgore, TX | 06/03/2002 | Toilet Bowls.
41,837 | Kurt Manufacturing (Wkrs) | Mpls, MN | 07/03/2002 | Industrial Machinery.

[FR Doc. 02-19962 Filed 8-6-02; 8:45 am]

BILLING CODE 4510-30-M